DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is schedule for February 8, 2000, from 10 am to 1 pm.

ADDRESSES: Federation Aviation Administration, 800 Independence Avenue, Room 810, Washington, DC.

FOR FURTHER INFORMATION CONTACT: Effie M. Upshaw, Office of Rulemaking, ARM-209, FAA, 800 Independence Avenue, SW., Washington, DC 20591, Telephone (202) 267-7626, FAX (202) 267-5075.

SUPPLEMENTARY INFORMATION: Pursuant to section 10(a)(2) of the Federal Advisory Committee Act (Pub. L. 92-463; 5 U.S.C. app. III), notice is given of an ad hoc ARAC meeting to be held Febuary 8, 2000, at the Federal Aviation Administration, 800 Independence Ave., Room 810, Washington, DC. The meeting is being held to approve items that had been expected to be voted on, but were not because of time constraints, at the December 1999 TAE meeting. At that time, TAE members agreed to hold an ad hoc meeting/teleconference for the expressed purpose of voting on only those items carried over from the December meeting.

The agenda will include the following actions:

• The Engine Harmonization Working Group (HWG) plans to request approval to submit a package to the FAA for formal legal and economic reviews. The package contains a proposed notice of rulemaking and associated advisory circulars that address type certificates for aircraft propellers, fatigue limits and evaluation, propeller control system, vibration and fatigue evaluation, safety analysis, and propeller certificate handbook.

• The Human Factors HWG will be requesting approval of its work plan on flight crew error/flight crew performance considerations in the flight deck certification process.

• The Electrical System HWG plans to request TAE approval to submit its report on electrical generating and distribution systems and electrical bonding and protection against lighting and static electricity.

• The Loads and Dynamics HWG plans to request approval of a proposed advisory circular addressing design dive speed.

Attendance is open to the public, but will be limited to the availability of meeting room space and telephone lines. The public may participate by teleconference by contracting the person listed under the heading FOR FURTHER INFORMATION CONTACT after Febuary 2. The public must make arrangements by February 4 to present oral statements at the meeting. Written statements may be presented to the committee at any time by providing 25 copies to the Assistant Executive Director for Transport Airplane and Engine issues or by providing copies at the meeting. Copies of the documents to be voted upon may be made available by contacting the person listed under the heading FOR FURTHER INFORMATION CONTACT.

If you are in need of assistance or require a reasonable accommodation for the meeting or meeting documents, please contact the person listed under the heading FOR FURTHER INFORMATION CONTACT. Sign and oral interpretation, as well as a listening device, can be made available if requested 10 calendar days before the meeting.

Issued in Washington, DC, on January 20, 2000.
Anthony F. Fazio,
Director, Aviation Rulemaking Advisory Committee.

[FR Doc. 00-1817 Filed 1-25-00; 8:45 am]

BILLING CODE 4910-13-M